DEPARTMENT OF TRANSPORTATION

Federal Highway Administration

Notice of Rescission of the Record of Decision (ROD) for the I-94 East-West Corridor Project in the City of Milwaukee, Milwaukee County, Wisconsin

AGENCY: Federal Highway Administration (FHWA), Department of Transportation.

ACTION: Notice of rescission of the Record of Decision.

SUMMARY: The FHWA is issuing this notice to advise the public that the ROD for the proposed I-94 East-West Corridor (70th Street to 16th Street) Project in the City of Milwaukee, Milwaukee County, Wisconsin is rescinded effective with this notice.

FOR FURTHER INFORMATION CONTACT: Bethaney Bacher-Gresock, Major Project Environmental Manager, Federal Highway Administration, 525 Junction Road, Suite 8000, Madison, Wisconsin, 53717-2157, Telephone: (608) 662-2119.

SUPPLEMENTARY INFORMATION: The FHWA, as the lead Federal agency, in cooperation with the Wisconsin Department of Transportation (WisDOT) signed a ROD on September 9, 2016 for the I-94 East-West Corridor (70th Street to 16th Street) Project; it is hereby rescinded. The purpose of the project was to address the deteriorated infrastructure condition of I-94, including obsolete roadway and bridge design, and thereby maintain a state of good repair and improve safety along approximately 3.5 miles of I-94. The proposed project included modernizing existing interchanges and adding capacity along the corridor.

WisDOT has notified FHWA that pursuant to s. 84.0145, Wis. Stats., the Legislature must specifically authorize WisDOT to proceed with the project. The recently approved 2017 Wisconsin Act 59, the State's biennial budget, did not authorize WisDOT to advance the project. Therefore, FHWA has determined, in conjunction with WisDOT, that the ROD shall be rescinded. Any future environmental action within this corridor will comply with environmental review requirements of the National Environmental Policy Act ((NEPA) (42 U.S.C. 4321, et seq.)), FHWA environmental regulations (23 CFR 771), and related authorities prior to reissuance of a ROD or other NEPA documentation, as appropriate. Comments and questions concerning this action should be directed to FHWA at the address provided above.

(Catalog of Federal Domestic Assistance Program Number 20.205, Highway Planning and Construction. The regulations implementing Executive Order 12372 regarding intergovernmental consultation on Federal programs and activities apply to this program.)

Issued on: October 4, 2017.
Timothy C. Marshall,
Assistant Division Administrator, FHWA Wisconsin Division, Madison, Wisconsin.

[FR Doc. 2017-21917 Filed 10-10-17; 8:45 am]

BILLING CODE 4910-22-P